DEPARTMENT OF AGRICULTURE

Agricultural Marketing Service

7 CFR Part 66

[Doc. No. AMS-TM-17-0050]

National Bioengineered Food Disclosure Standard

AGENCY: Agricultural Marketing Service, USDA.

ACTION: Proposed rule; notice of availability of informational webinar.

SUMMARY: The Agricultural Marketing Service (AMS) is announcing the availability of an informational webinar regarding the proposed National Bioengineered Food Disclosure Standard (NBFDS or standard). The proposed standard would require food manufacturers and other entities that label foods for retail sale to disclose information about bioengineered food and bioengineered food ingredients. The pre-recorded webinar will provide an overview of the background, provisions, and potential impacts of the proposed standard. Establishment and implementation of the new standard is required by recent amendment to the Agricultural Marketing Act of 1946.

DATES: The webinar will be made available on the AMS website at https://www.ams.usda.gov/rules-regulations beginning June 1, 2018.

FOR FURTHER INFORMATION CONTACT: Email: befooddisclosure@ams.usda.gov; telephone: (202) 690-1300; or Fax: (202) 690-0338. Comments on the proposed rule sent to this email address will not be considered. Comments must be submitted through regulations.gov; by mail to the Docket Clerk, 1400 Independence Ave., AS, Room 4543-S, Washington, DC 20250; or by Fax to (202) 690-0338.

SUPPLEMENTARY INFORMATION: On July 29, 2016, Public Law 114-216 amended the Agricultural Marketing Act of 1946 (7 U.S.C. 1621 et seq.), as amended, and directed the Secretary of Agriculture to establish the NBFDS for disclosing any food that is or may be bioengineered. AMS published a proposed rule regarding the new standard in the Federal Register on May 4, 2018 (83 FR 19860). The proposed rule announced that AMS would be providing a webinar regarding the proposed NBFDS. The webinar, which is pre-recorded, will be made available to interested persons on the AMS website at https://www.ams.usda.gov/rules-regulations beginning June 1, 2018. The webinar is intended to supply basic information about the proposed rule and several regulatory alternatives on which AMS is seeking public comment.

The rule seeks comments on the proposed scope of the standard, including what foods should bear disclosures and what entities would be responsible for making disclosures. The rule proposes several alternatives for consideration, including methods of disclosure, and outlines procedures for recordkeeping and compliance. The proposed rule also seeks comments on the recordkeeping and information collection burden associated with the new standard. Comments on the proposed rule and on the information collection are being accepted through July 3, 2018, and should be submitted as directed in the May 4, 2018, Federal Register document.

In conjunction with the proposed rule, AMS published a Regulatory Impact Analysis, which describes potential impacts of the rule under alternative scenarios. Comments on the regulatory impacts of the proposed NBFDS are also invited. The full text of the proposed rule, as well as the Regulatory Impact Analysis, may be viewed at www.regulations.gov.

Authority: 7 U.S.C. 1621 et seq.

Dated: May 18, 2018.
Bruce Summers,
Administrator.

[FR Doc. 2018-11025 Filed 5-22-18; 8:45 am]

BILLING CODE 3410-02-P